DEPARTMENT OF HEALTH AND HUMAN SERVICES

Administration for Children and Families

[CFDA Number: 93.612]

Announcement of the Intent To Award an Emergency Single-Source Grant

AGENCY: Administration for Native Americans (ANA), Administration for Children and Families (ACF), Department of Health and Human Services (HHS).

ACTION: Notice of intent to issue an emergency single-source award to 500 Sails, Inc. in Saipan, Commonweath of the Northern Mariana Islands.

SUMMARY: The ACF, ANA, Division of Program Operations (DPO) intends to award a grant of $106,638 to 500 Sails, Inc. in Saipan, Commonwealth of the Northern Mariana Islands. The purpose of the award is to support restoration of culturally significant sites and a digital storytelling project after the devastating effects of Typhoon Yutu in October, 2018.

DATES: The intended period of performance for this award is 09/30/2019 through 09/29/2020.

FOR FURTHER INFORMATION CONTACT: Carmelia Strickland, Director, Division of Program Operations, Administration for Native Americans, 330 C Street SW, Switzer Bldg. 4115, Washington, DC 20201. Telephone: 202-401-6741; Email: Carmelia.Strickland@acf.hhs.gov.

SUPPLEMENTARY INFORMATION: An emergency declaration by President Donald Trump was issued for the Commonwealth of the Northern Mariana Islands (CNMI) on October 27, 2018. In the spring of 2019, ANA's Pacific Basin Training and Technical Assistance Center performed an assessment of community needs that were not addressed by other federal agencies in response to the catastrophic storm. A report was prepared for ANA with a series of projects aiming to reduce the post-traumatic stress of 200 Chamorro and Carolinian community members through storytelling, and to repair and/or restore six culturally significant sites and two ANA project sites. Currently, the CNMI government is burdened with the reconstruction of homes and governmental infrastructure that were damaged by Typhoon Yutu. The award will be carried out by 500 Sails, Inc., a non-profit organization located in Saipan, CNMI, to serve as the grants administrator and project coordinator for the proposed projects. 500 Sails, Inc. is a current ANA grantee with an ending 3-year project period and has successfully administered an ANA award. They have the organizational capacity, including accounting and data management, as well as qualified staff in place. In addition, the organization has the community connections, partnerships, and experience to successfully implement the award. The Board of Directors for 500 Sails, Inc has included a board resolution in support of the application and the 9 proposed projects. The activities within the project are designed to incorporate cultural ways of supporting the recovery after Typhoon Yutu. The proposed projects include the cultural component that no other federal agency could provide, and it allows for a holistic approach to the recovery. Most of the projects include volunteer opportunities for community members to help in the rebuilding of their community. The application will be awarded in compliance with HHS policy for emergency awards, including after an objective review has been conducted.

Statutory Authority: Section 803(a) of the Native American Programs Act of 1974 (NAPA), 42 U.S.C. 2991b.

Elizabeth Leo,
Senior Grants Policy Specialist, Division of Grants Policy, Office of Administration.

[FR Doc. 2019-20996 Filed 9-24-19; 11:15 am]

BILLING CODE 4184-34-P